DEPARTMENT OF THE TREASURY

Internal Revenue Service

26 CFR Part 301

[TD 8969]

RIN 1545-AW37

Payment by Credit Card and Debit Card; Correction

AGENCY: Internal Revenue Service (IRS), Treasury.

ACTION: Final regulations and removal of temporary regulations.

SUMMARY: This document contains corrections to final regulations (TD 8969) which were published in the Federal Register on Friday, December 14, 2001 (66 FR 64740). These regulations relate to the payment by credit card and debit card.

DATES: These corrections are effective December 14, 2001.

FOR FURTHER INFORMATION CONTACT: Brinton Warren, (202) 622-4940 (not a toll-free number).

SUPPLEMENTARY INFORMATION:

Background

The final regulations and removal of temporary regulations that are the subject of this correction is under sections 6103 through 6311 of the Internal Revenue Code.

Need for Correction

As published, final regulations (TD 8969) contain errors which may prove to be misleading and are in need of clarification.

Correction of Publication

Accordingly, the publication of final regulations and removal of temporary regulations (TD 8969), which are the subject of FR Doc. 01-30934, is corrected as follows:

§ 301.6311-2 [Corrected]

1. On page 64743, column 3, § 301.6311-2(d)(2)(i)(D), line 4, the language “Action (15 U.S.C. 1666), section 908 of” is corrected to read “Act (15 U.S.C. 1666), section 908 of”.

2. On page 64743, column 3, § 301.6311-2(d)(2)(i)(D), line 6, the language “U.S.C. 1693f; or similar provisions of” is corrected to read “U.S.C. 1693f), or similar provisions of”.

LaNita VanDyke,
Acting Chief, Regulations Unit, Associate Chief Counsel (Income Tax and Accounting).

[FR Doc. 02-661 Filed 1-10-02; 8:45 am]

BILLING CODE 4830-01-P